DEPARTMENT OF THE INTERIOR

National Park Service

Notice of Inventory Completion: Fowler Museum of Cultural History, University of California, Los Angeles, Los Angeles, CA

AGENCY: National Park Service, Interior.

ACTION: Notice.

Notice is here given in accordance with the Native American Graves Protection and Repatriation Act (NAGPRA), 25 U.S.C. 3003, of the completion of an inventory of human remains and associated funerary objects in the control of the Fowler Museum of Cultural History (Fowler Museum at UCLA), University of California, Los Angeles, Los Angeles, CA. The human remains and associated funerary objects were removed from Tulare County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Fowler Museum at UCLA professional staff in consultation with representatives of the Santa Rosa Indian Community of the Santa Rosa Rancheria, California (also known as the Tachi Yokut Tribe).

In August 1958, human remains representing a minimum of 11 individuals were removed from a site near the edge of the former Lake Tulare (CA-TUL-90) in Tulare County, CA, by C.N. Warren and M.B. McKusick. The collection was accessioned by the University of California, Los Angeles in 1958. No known individuals were identified. The 11 associated funerary objects are 6 animal bone, 2 land snail shell fragments, 1 basalt flake, and 2 sandstone net weights.

The artifacts are consistent with others documented as associated with the indigenous inhabitants of the area. The burial position and orientation along with numbers of grave goods and the presence of net weights associate the burials with the Middle Period (3,500 to 1,500 B.P). Lake Tulare is located within the traditional territory of the Yokut tribe. According to archeologists, the Yokut have occupied the territory around Tulare Lake and Buena Vista Lake for as long as two millennia.

Tribal representatives from Santa Rosa Indian Community of the Santa Rosa Rancheria, California identified the site as being within the traditional territory of the Yokut people. Descendants of the Yokut are members of the Picayune Rancheria of Chukchansi Indians of California; Santa Rosa Indian Community of the Santa Rosa Rancheria, California; Table Mountain Rancheria of California; and Tule River Indian Tribe of the Tule River Reservation, California.

Officials of the Fowler Museum at UCLA have determined that, pursuant to 25 U.S.C. 3001 (9-10), the human remains described above represent the physical remains of 11 individuals of Native American ancestry. Officials of the Fowler Museum at UCLA also have determined that, pursuant to 25 U.S.C. 3001 (3)(A), the 11 objects described above are reasonably believed to have been placed with or near individual human remains at the time of death or later as part of the death rite or ceremony. Lastly, officials of the Fowler Museum at UCLA have determined that, pursuant to 25 U.S.C. 3001 (2), there is a relationship of shared group identity that can be reasonably traced between the Native American human remains and associated funerary objects and the Picayune Rancheria of Chukchansi Indians of California; Santa Rosa Indian Community of the Santa Rosa Rancheria, California; Table Mountain Rancheria of California; and Tule River Indian Tribe of the Tule River Reservation, California.

Representatives of any other Indian tribe that believes itself to be culturally affiliated with the human remains and associated funerary objects should contact Wendy Teeter, Fowler Museum at UCLA, Box 951549, Los Angeles, CA 90095-1549, telephone (310) 825-1864, before October 15, 2007. Repatriation of the human remains and associated funerary objects to the Santa Rosa Indian Community of the Santa Rosa Rancheria, California may proceed after that date if no additional claimants come forward.

The Fowler Museum at UCLA is responsible for notifying the Picayune Rancheria of Chukchansi Indians of California; Santa Rosa Indian Community of the Santa Rosa Rancheria, California; Table Mountain Rancheria of California; and Tule River Indian Tribe of the Tule River Reservation, California that this notice has been published.

Dated: August 22, 2007
Sherry Hutt,
Manager, National NAGPRA Program.

[FR Doc. E7-18101 Filed 9-12-07; 8:45 am]

BILLING CODE 4312-50-S